COMMODITY FUTURES TRADING COMMISSION

17 CFR Part 4

RIN 3038-AB60

Profile Documents for Commodity Pools; Correction

Correction

In rule document 02-15994 beginning on page 42709 in the issue of Tuesday, June 25, 2002, make the following corrections:

1. On page 42709, in the third column, under SUPPLEMENTARY INFORMATION: in the ninth line “COP” should read “CPO”.

2. On the same page, in the same column, under SUPPLEMENTARY INFORMATION: in the second paragraph, in the fourth line, “comment” should read “document”.

3. On the same page, in the same column, under SUPPLEMENTARY INFORMATION: in the third paragraph, in the first line, “commission” should read “Commission”.

[FR Doc. C2-15994 Filed 7-3-02; 8:45 am]

BILLING CODE 1505-01-D

GENERAL SERVICES ADMINISTRATION

Submission for Public Comments: General Services Administration (GSA) Household Goods Tender of Service (HTOS); Conversion of Flat Industrial Funding Fee (IFF) to a Percentage IFF

Correction

In notice document 02-15736 beginning on page 42259, in the issue of Friday, June 21, 2002 make the following corrections:

On page 42262, the table should read as set forth below:

Examples:

(1) Domestic:

A | B | C | D | E | F | G | H | I | J | K | L
S | GSAA | GD | HHG | RXPG8TY43 | Q794912349XXXXX | 19990612 | S12345XX | V | 19990105 | 19990312 | 007

M | N | O | P | Q | R | S | T | U | T | U
MO00 | 64131 | OK00 | 71222 | 10030 | 0400 | 056 | 12500 | 05500 | SMITH-BATTSONXX | 103777444

* * * * *

[FR Doc. C2-15736 Filed 7-3-02; 8:45 am]

BILLING CODE 1505-01-D

DEPARTMENT OF HEALTH AND HUMAN SERVICES

Food and Drug Administration

21 CFR Part 312

[Docket No. 00N-1663]

RIN 0910-AA61

Investigational New Drugs: Export Requirements for Unapproved New Drug Products

Correction

In proposed rule document 02-15358 beginning on page 14642 in the issue of Wednesday, June 19, 2002, make the following corrections:

1. On page 41644, in the second column, in the first paragraph, in the eight and tenth lines from the bottom, “802©” should read “802(c)”.

2. On page 41645, in the first column, in the last paragraph, in the first line, “§312.110©” should read “§312.110(c)”.

3. On page 41646, in the first column, in the last paragraph, in the third, sixth, and 15th lines “802©” should read “802(c)”.

4. On the same page, in the second column, in the first complete paragraph, in the 12th line, “802©” should read “802(c)”.

[FR Doc. C2-15358 Filed 7-3-02; 8:45 am]

BILLING CODE 1505-01-D

DEPARTMENT OF HEALTH AND HUMAN SERVICES

Food and Drug Administration

21 CFR Part 558

New Animal Drugs for Use in Animal Feeds; Lincomycin

Correction

In rule document 02-13164 beginning on page 36512 in the issue of Friday, May 24, 2002, make the following correction:

On page 34514, in the first column, correct the signature to read as follows:

Andrew J. Beaulieu,
Acting Director, Office of New Animal Drug Evaluation, Center for Veterinary Medicine.

[FR Doc. C2-13164 Filed 7-3-02; 8:45 am]

BILLING CODE 1505-01-D